DEPARTMENT OF THE INTERIOR

National Park Service

[NPS-WASO-NAGPRA-19934; PPWOCRADN0-PCU00RP14.R50000]

Notice of Inventory Completion: Department of Anthropology at Indiana University, Bloomington, IN

AGENCY: National Park Service, Interior.

ACTION: Notice.

SUMMARY: The Department of Anthropology at Indiana University has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Indiana University NAGPRA Office. If no additional requestors come forward, transfer of control of the human remains to the Indian tribes or Native Hawaiian organizations stated in this notice may proceed.

DATES: Representatives of any Indian tribe or Native Hawaiian organization not identified in this notice that wish to request transfer of control of these human remains should submit a written request with information in support of the request to the Indiana University NAGPRA Office at the address in this notice by February 8, 2016.

ADDRESSES: Dr. Jayne-Leigh Thomas, NAGPRA Director, Indiana University, NAGPRA Office, Student Building 318, 701 E. Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains under the control of the Department of Anthropology at Indiana University, Bloomington, IN. The human remains were removed from an unknown location along the Northwest Coast of the United States.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Indiana University professional staff in consultation with representatives of the Lummi Tribe of the Lummi Reservation, Muckleshoot Indian Tribe (previously listed as the Muckleshoot Indian Tribe of the Muckleshoot Reservation, Washington), Nooksack Indian Tribe, Samish Indian Nation (previously listed as the Samish Indian Tribe, Washington), Sauk-Suiattle Indian Tribe, Snoqualmie Indian Tribe (previously listed as the Snoqualmie Tribe, Washington), Stillaguamish Tribe of Indians of Washington (previously listed as the Stillaguamish Tribe of Washington), Suquamish Indian Tribe of the Port Madison Reservation, Swinomish Indian Tribal Community (previously listed as the Swinomish Indians of the Swinomish Reservation of Washington), the Tulalip Tribes of Washington (previously listed as the Tulalip Tribes of the Tulalip Reservation, Washington), and the Upper Skagit Indian Tribe, hereafter referred to as “The Tribes”.

History and Description of the Remains

In July of 1941, human remains representing, at minimum, three individuals were removed from a “shell mound” at an unknown location in the “Northwest Coast”. This collection was transferred to Indiana University from the University of Chicago during the 1950s. The boxes containing the collection recorded the collection as having previously been located at the University of Washington. No known individuals were identified. No associated funerary objects are present.

Notes accompanying this collection indicate that two of the individuals from this collection were excavated from a shell mound in July of 1941 by Tom Harmon. The geographic location is listed as “Northwest Coast.” The third individual from this collection is listed as having been excavated from the same shell mound in July of 1941 by Harry Smith. Extensive efforts have been made to collect information about Tom Harmon, who was a Road Commissioner in 1941; however, no further information has been found.

During the 1940s, Harry Everett Smith gifted cultural objects to the Thomas Burke Museum Memorial of Natural History and Culture (Burke Museum) at the University of Washington, including objects Smith had collected from Skagit County. Harry Smith grew up in the Anacortes area of Skagit County, Washington State, and is known to have worked with the tribal communities in Skagit and Whatcom Counties in the late 1930s and early 1940s, recording their language and songs. Between 1942 and 1944 he studied anthropology at the University of Washington, focusing on Native American tribes of the Pacific Northwest. Indiana University and the Burke Museum have concluded that by a preponderance of the evidence, `Harry Smith' who excavated the `shell mound' in 1941, and the Harry Smith who collected artifacts from Skagit County and worked with the University of Washington, are the same person. This conclusion is supported by the Burke Museum's accession records and other UW archival information.

“Shell Mounds” or shell middens are archaeological sites common along the shorelines of the Northwest Coast including the northern Puget Sound region, where Skagit and Whatcom Counties are located. The shell middens of this area are between 200 and 4000 years old; both burials and isolated human remains are commonly found in these sites.

Determinations Made by Indiana University

Officials of Indiana University have determined that:

• Pursuant to 25 U.S.C. 3001(9), the human remains described in this notice are Native American based on osteological evidence and collection history.

• Pursuant to 25 U.S.C. 3001(9), the human remains described in this notice represent the physical remains of three individuals of Native American ancestry.

• Pursuant to 25 U.S.C. 3001(2), a relationship of shared group identity cannot be reasonably traced between the Native American human remains and any present-day Indian tribe.

• According to final judgments of the Indian Claims Commission or the Court of Federal Claims, the land from which the Native American human remains removed is the aboriginal land of The Tribes.

• On January 22, 1855, the Point Elliot Treaty was signed by representatives from The Tribes. The Point Elliot Treaty established an agreement between the United States Government and The Tribes for lands in western Washington. The lands around Anacortes, Washington from which the Native American human remains were removed were a part of the aboriginal lands ceded by the Point Elliot Treaty.

• Pursuant to 43 CFR 10.11(c)(1), the disposition of the human remains may be to The Tribes.

Additional Requestors and Disposition

Representatives of any Indian tribe or Native Hawaiian organization not identified in this notice that wish to request transfer of control of these human remains should submit a written request with information in support of the request to Dr. Jayne-Leigh Thomas, NAGPRA Director, Indiana University, NAGPRA Office, Student Building 318, 701 E. Kirkwood Avenue, Bloomington, IN 47405, telephone (812) 856-5315, email thomajay@indiana.edu, by February 8, 2016. After that date, if no additional requestors have come forward, transfer of control of the human remains to the Lummi Tribe of the Lummi Reservation, Muckleshoot Indian Tribe (previously listed as the Muckleshoot Indian Tribe of the Muckleshoot Reservation, Washington), Nooksack Indian Tribe, Samish Indian Nation (previously listed as the Samish Indian Tribe, Washington), Sauk-Suiattle Indian Tribe, Snoqualmie Indian Tribe (previously listed as the Snoqualmie Tribe, Washington), Stillaguamish Tribe of Indians of Washington (previously listed as the Stillaguamish Tribe of Washington), Suquamish Indian Tribe of the Port Madison Reservation, Swinomish Indian Tribal Community (previously listed as the Swinomish Indians of the Swinomish Reservation of Washington), the Tulalip Tribes of Washington (previously listed as the Tulalip Tribes of the Tulalip Reservation, Washington), and the Upper Skagit Indian Tribe may proceed.

Indiana University is responsible for notifying The Tribes that this notice has been published.

Dated: December 8, 2015.
Amberleigh Malone,
Acting Manager, National NAGPRA Program.

[FR Doc. 2016-00056 Filed 1-6-16; 8:45 am]

BILLING CODE 4312-50-P